FEDERAL ACCOUNTING STANDARDS ADVISORY BOARD

Notice of Issuance of Technical Bulletin 2003-1

Board Action: Pursuant to the Federal Advisory Committee Act (Pub. L. 92-463), as amended, and the FASAB rules of procedure, as amended in October, 1999, notice is hereby given that the Federal Accounting Standards Advisory Board has issued Technical Bulletin 2003-1, Certain Questions and Answers Related to The Homeland Security Act of 2002.

The primary effects of the Technical Bulletin are that:

a. Legacy entities will segregate the net costs of continuing and transferred operations, and recognize a transfer-out for assets and liabilities transferred. Segregation of the net cost is required for both current and prior period net cost.

b. Transferred entities will segregate the net costs of continuing and transferred operation for components of the transferred entity that (1) were not transferred from the legacy entity or (2) subsequent to the creation of the Department of Homeland Security were no longer included in the transferred entity's operations. Transferred entities will recognize a transfer-out for assets and liabilities transferred. Segregation of the net cost is required for both current and prior period net cost.

c. Department of Homeland Security and other receiving entities will recognize assets and liabilities received at book value and recognize a “transfer-in.” Financial statements based on the transfers and actual operations subsequent to the transfer will be presented.

The Technical Bulletin is available on the FASAB Web site at www.fasab.gov or by calling 202-512-7350.

FOR FURTHER INFORMATION CONTACT: Wendy Comes, Executive Director, 441 G St., NW., Mail Stop 6K17V, Washington, DC 20548, or call (202) 512-7350.

Authority: Federal Advisory Committee Act. Pub. L. 92-463.

Dated: June 13, 2003.
Wendy M. Comes,
Executive Director.

[FR Doc. 03-15510 Filed 6-18-03; 8:45 am]

BILLING CODE 1610-01—P